DEPARTMENT OF VETERANS AFFAIRS

Notice of Availability of a Final Environmental Impact Statement (EIS) for the Reconfiguration of VA Black Hills Health Care System (BHHCS)

AGENCY: Department of Veterans Affairs (VA).

ACTION: Notice of Availability.

SUMMARY: VA announces the availability of the Final EIS for the Reconfiguration of the VA Black Hills Health Care System (BHHCS). Pursuant to the National Environmental Policy Act (NEPA) of 1969, as amended (42 U.S.C. 4321, et seq.), the Council on Environmental Quality's (CEQ's) regulations for implementing the procedural provisions of NEPA (40 Code of Federal Regulations [CFR] Parts 1500-1508), VA's NEPA regulations titled “Environmental Effects of the Department of Veterans Affairs Actions” (38 CFR part 26), and VA's “NEPA Interim Guidance for Projects” (VA 2010), VA has considered comments received on the Draft EIS, which was issued in October 2015 and identifies VA's preferred alternative in the Final EIS. The Final EIS uses the substitution approach for integrating compliance with Section 106 of the National Historic Preservation Act (NHPA) into the EIS process.

DATES: VA will publish a Record of Decision no sooner than 30 days after publication of the U.S. Environmental Protection Agency's Notice of Availability in the Federal Register.

ADDRESSES: The 2016 Final EIS is available for viewing on the Web site www.blackhills.va.gov/vablackhillsfuture/. Copies of the Final EIS are also available in the following locations: Hot Springs; Rapid City Downtown; Sturgis; Chadron; Alliance; Lied Scottsbluff; and Pierre (Rawlins Municipal) public libraries, as well as in Pine Ridge at the Oglala Lakota College Pine Ridge Center library on the high school campus.

FOR FURTHER INFORMATION CONTACT: Staff Assistant to the Director, VA Black Hills Health Care System, 113 Comanche Road, Fort Meade, SD 57741, or by email to vablackhillsfuture@va.gov.

Information related to the EIS process is also available for viewing on the VA BHHCS Web site www.blackhills.va.gov/vablackhillsfuture/.

SUPPLEMENTARY INFORMATION: VA BHHCS provides health care to approximately 19,000 Veterans over 100,000 square miles in western South Dakota (SD), northwestern Nebraska (NE), and eastern Wyoming (WY). VA BHHCS consists of two medical centers at Fort Meade and Hot Springs, 11 community-based outpatient clinics (CBOCs), and six Compensated Work Therapy locations. VA BHHCS has identified a need to reconfigure the health care services to ensure it continues to provide high quality, safe, and accessible health care services across its service area. The existing locations and facilities constrain the quality of care, range of services, and access to care that VA offers in the catchment area. The Hot Springs campus includes buildings constructed in 1907 as part of the Battle Mountain Branch of the National Home for Disabled Volunteer Soldiers. The Battle Mountain Sanitarium was recognized as a National Historic Landmark in 2011.

Pursuant to NEPA, VA has identified and analyzed potential environmental impacts for a range of alternatives to the Proposed Action. These include seven alternatives, including the No Action Alternative, as well as a supplement to five of the alternatives for re-use of part or all of the existing Hot Springs campus. The alternatives propose different locations and combinations of facilities serving as a community-based outpatient clinic (CBOC), a multi-specialty outpatient clinic (MSOC), and a residential rehabilitation treatment program (RRTP) facility; expanding, renovating, or vacating existing facilities; and taking no action. The new preferred Alternative, referred to as A-2 in the Final EIS, is a hybrid of Alternatives A and C evaluated in the Draft EIS. It was identified by consulting parties during the public comment period on the Draft EIS and includes renovating Building 12 on the existing Hot Springs campus to operate as a CBOC a new MSOC (replacing the existing leased CBOC), and a 100-bed RRTP in Rapid City.

VA is substituting the implementation and review procedures of Section 102 of NEPA for consultation under Section 106 of the NHPA. This process meets the integration intent of the NEPA regulations (40 CFR 1500.2(c) and 1502.25(a)) and the substitution intent of the NHPA regulations (36 CFR 800.8(c)). This process follows the joint CEQ-ACHP guidance for integrating NEPA and Section 106 compliance (CEQ-ACHP 2013). The EIS includes identification and evaluation of impacts to historic properties. Formal consultation and identification and resolution of effects to historic properties are documented throughout the Final EIS.

In the Final EIS, VA has analyzed the environmental impacts of the Proposed Action/Preferred Alternative, a reasonable range of alternatives, and a No Action Alternative.

The Final EIS considers comments on the Draft EIS, including those submitted during the public comment period that officially began on November 6, 2015, and ended on June 20, 2016, following three comment period extensions. The extensions were provided in response to requests from the public and other stakeholders, including consulting parties participating in the NEPA/NHPA substitution and consultation process.

As indicated above, VA's purpose and need is to improve the availability of high quality, safe and accessible health care services for Veterans residing in the VA BHHCS service area.

While developing the Final EIS, VA considered the alternatives analyzed in the Draft EIS, the comparisons of impacts for each resource area, and input received on the Draft EIS, including the identification of a new hybrid alternative A-2. Based on the information presented in the Final EIS, VA has identified Alternative A-2—operation of a CBOC in a renovated Building 12 on the existing Hot Springs campus and a new MSOC and RRTP in Rapid City—as its preferred alternative in the Final EIS.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on November 4, 2016, for publication.

Dated: November 4, 2016.
Jeffrey Martin,
Office Program Manager, Office of Regulation Policy & Management, Office of the Secretary, Department of Veterans Affairs.

[FR Doc. 2016-27207 Filed 11-9-16; 8:45 am]

BILLING CODE 8320-01-P